DEPARTMENT OF TRANSPORTATION

Federal Motor Carrier Safety Administration

[Docket No. FMCSA-2016-0212]

Qualification of Drivers; Exemption Applications; Vision

AGENCY: Federal Motor Carrier Safety Administration (FMCSA), DOT.

ACTION: Notice of applications for exemptions; request for comments.

SUMMARY: FMCSA announces receipt of applications from 31 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before December 29, 2016. All comments will be investigated by FMCSA. The exemptions will be issued the day after the comment period closes.

ADDRESSES: You may submit comments bearing the Federal Docket Management System (FDMS) Docket No. FMCSA-2016-0212 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., e.t., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., e.t., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 31 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

James A. Bartolo Jr.

Mr. Bartolo, 59, has a chorioretinal scar in his right eye due to a traumatic incident in 1980. The visual acuity in his right eye is counting fingers, and in his left eye, 20/20. Following an examination in 2016, his optometrist stated, “Ocular Trauma, nail went in eye, 1980. He has been stable for over 20 years . . . James has driven without any problems and I do not foresee any problems driving a commercial vehicle in the future.” Mr. Bartolo reported that he has driven straight trucks for 16 years, accumulating 480,000 miles. He holds an operator's license from California. His driving record for the last 3 years shows no crashes and no convictions for moving violations in a CMV.

Harry S. Bumps

Mr. Bumps, 68, has glaucoma in his left eye due to a traumatic incident in 1976. The visual acuity in his right eye is 20/20, and in his left eye, hand motion. Following an examination in 2016, his ophthalmologist stated, “In my opinion I feel he has sufficient vision to operate a commercial vehicle.” Mr. Bumps reported that he has driven straight trucks for 40 years, accumulating 360,000 miles and tractor-trailer combinations for 40 years, accumulating 200,000 miles. He holds a Class A CDL from Vermont. His driving record for the last 3 years shows one crash for “limitation on backing for due regard to safety” and no convictions for moving violations in a CMV.

Brian T. Castoldi

Mr. Castoldi, 44, has a central vein occlusion in his right eye since 2012. The visual acuity in his right eye is 20/80, and in his left eye, 20/20. Following an examination in 2016, his optometrist stated, “Given Brian's visual handicap, I believe he is both capable and safe to drive a commercial vehicle.” Mr. Castoldi reported that he has driven straight trucks for 8 years, accumulating 874,000 miles and tractor-trailer combinations for 9 years, accumulating 1.23 million miles. He holds an operator's license from Connecticut. His driving record for the last 3 years shows no crashes and no convictions for moving violations in a CMV.

William B. Friend

Mr. Friend, 54, has had amblyopia in his left eye since childhood. The visual acuity in his right eye is 20/20, and in his left eye, 20/150. Following an examination in 2016, his ophthalmologist stated, “In my medical opinion, I feel that he has sufficient vision to perform required [sic] to operate a commercial vehicle as he has adapted to his visual changed [sic] in his left eye over a course of his lifetime and it appears to cause him no limitations at this time.” Mr. Friend reported that he has driven straight trucks for 38 years, accumulating 570,000 miles. He holds an operator's license from Maryland. His driving record for the last 3 years shows no crashes and no convictions for moving violations in a CMV.

Willie George

Mr. George, 70, has a macular scar in his right eye due to a traumatic incident in childhood. The visual acuity in his right eye is 20/100, and in his left eye, 20/25. Following an examination in 2016, his ophthalmologist stated, “In my opinion, Mr. Willie George level [sic] vision is sufficient for him to continue to operate a commercial vehicle.” Mr. George reported that he has driven straight trucks for 15 years, accumulating 510,000 miles, and tractor-trailer combinations for 30 years, accumulating 2.25 million miles. He holds a Class A CDL from New York. His driving record for the last 3 years shows no crashes and no convictions for moving violations in a CMV.

David E. Goff

Mr. Goff, 62, has had a retinal detachment in his right eye since 1978. The visual acuity in his right eye is hand motion, and in his left eye, 20/20. Following an examination in 2016, his optometrist stated, “In my opinion, Mr. Goff has sufficient vision to perform the driving tasks required to operate a commercial vehicle.” Mr. Goff reported that he has driven straight trucks for 15 years, accumulating 45,000 miles, and tractor-trailer combinations for 10 years, accumulating 12,000 miles. He holds a Class A CDL from Massachusetts. His driving record for the last 3 years shows no crashes and no convictions for moving violations in a CMV.

Michal Golebiowski

Mr. Golebiowski, 36, has prosthetic left eye due to a traumatic incident in childhood. The visual acuity in his right eye is 20/20, and in his left eye, no light perception. Following an examination in 2016, his optometrist stated, “In my opinion Mr. Golebiowski regardless his left eye blindness and mil [sic] protanopia has sufficient vision to perform the driving tasks required to operate a commercial vehicle.” Mr. Golebiowski reported that he has driven tractor-trailer combinations for 17 years, accumulating 1.36 million miles. He holds a Class A CDL from Illinois. His driving record for the last 3 years shows no crashes and no convictions for moving violations in a CMV.

Dana L. Gould

Mr. Gould, 55, has had amblyopia in his left eye since childhood. The visual acuity in his right eye is 20/20, and in his left eye, 20/200. Following an examination in 2016, his optometrist stated, “In my opinion, Mr. Gould has sufficient vision to perform the driving tasks required to operate a commercial vehicle.” Mr. Gould reported that he has driven straight trucks for 30 years, accumulating 150,000 miles. He holds a Class B CDL from Maine. His driving record for the last 3 years shows no crashes and no convictions for moving violations in a CMV.

Johnny J. Gowdy

Mr. Gowdy, 64, has complete loss of vision in his right eye due to a traumatic incident in 2003. The visual acuity in his right eye is no light perception, and in his left eye, 20/20. Following an examination in 2016, his optometrist stated, “In my medical opinion, Mr. Gowdy has sufficient vision to perform the driving tasks required to operate a commercial vehicle.” Mr. Gowdy reported that he has driven tractor-trailer combinations for 40 years, accumulating 2.6 million miles. He holds an operator's license from Mississippi. His driving record for the last 3 years shows no crashes and 2 convictions for moving violations in a CMV; one for exceeding the speed limit by 16 mph and the other for exceeding the speed limit by 15 mph.

Richard E. Hadler

Mr. Hadler, 49, has had a macular scar in his left eye since 2011. The visual acuity in his right eye is 20/20, and in his left eye, 20/200. Following an examination in 2016, his optometrist stated, “I feel Mr. Hadler's vision is stable for a commercial driver's license.” Mr. Hadler reported that he has driven straight trucks for 2 years, accumulating 120,000 miles, and tractor-trailer combinations for 17 years, accumulating 2.04 million miles. He holds a Class A CDL from Minnesota. His driving record for the last 3 years shows no crashes and no convictions for moving violations in a CMV.

Donald J. Harrison

Mr. Harrison, 28, has had amblyopia in his right eye since childhood. The visual acuity in his right eye is 20/80, and in his left eye, 20/25. Following an examination in 2016, his optometrist stated, “Donald meets all the vision requirements listed for the exemption program and therefore I believe he has sufficient vision required to perform the driving tasks required to operate a commercial vehicle [sic].” Mr. Harrison reported that he has driven straight trucks for 9 years, accumulating 18,000 miles, and tractor-trailer combinations for 9 years, accumulating 18,000 miles. He holds a Class A CDL from Iowa. His driving record for the last 3 years shows no crashes and no convictions for moving violations in a CMV.

Channing L. Herrell

Mr. Herrell, 47, has had amblyopia in his left eye since childhood. The visual acuity in his right eye is 20/20, and in his left eye, 20/60. Following an examination in 2016, his optometrist stated, “It is my professional opinion that the patient meets the visual requirements to operate a commercial vehicle.” Mr. Herrell reported that he has driven straight trucks for 26 years, accumulating 13,000 miles, and tractor-trailer combinations for 26 years, accumulating 23,400 miles. He holds an operator's license from Maryland. His driving record for the last 3 years shows no crashes and no convictions for moving violations in a CMV.

Loyd F. Hovey

Mr. Hovey, 67, has exotropia in his right eye due to a traumatic incident in childhood. The visual acuity in his right eye is light perception, and in his left eye, 20/25. Following an examination in 2016, his optometrist stated, “He demonstrates sufficient vision to perform the driving tasks required to operate a commercial vehicle.” Mr. Hovey reported that he has driven straight trucks for 51 years, accumulating 1 million miles, and tractor-trailer combinations for 35 years, accumulating 2.63 million miles. He holds a Class AM CDL from New York. His driving record for the last 3 years shows no crashes and no convictions for moving violations in a CMV.

George T. Huffman Jr.

Mr. Huffman, 53, has had amblyopia in his left eye since birth. The visual acuity in his right eye is 20/20, and in his left eye, 20/300. Following an examination in 2016, his optometrist stated, “He is now 52 years old and has driven commercially previously, and currently has sufficient vision to perform driving tasks required to operate a commercial vehicle, as nothing has changed visually.” Mr. Huffman reported that he has driven tractor-trailer combinations for 29 years, accumulating 2.9 million miles. He holds a Class A CDL from Illinois. His driving record for the last 3 years shows no crashes and no convictions for moving violations in a CMV.

Daniel E. Kinney

Mr. Kinney, 63, has had amblyopia in his left eye since childhood. The visual acuity in his right eye is 20/20, and in his left eye, 20/150. Following an examination in 2016, his ophthalmologist stated, “He has been driving a commercial vehicle for several years without incident and his current ophthalmologic [sic] status is unchanged for several years. I believe that he is qualified to operate a commercial vehicle.” Mr. Kinney reported that he has driven tractor-trailer combinations for 40 years, accumulating 478,000 miles. He holds a Class AM CDL from Illinois. His driving record for the last 3 years shows no crashes and no convictions for moving violations in a CMV.

Shane M. Lovell

Mr. Lovell, 25, has had amblyopia in his right eye since childhood. The visual acuity in his right eye is 20/80, and in his left eye, 20/20. Following an examination in 2016, his optometrist stated, “Based on the results of this testing I believe Mr. Lovell qualifies for a medical exemption regarding his visual status. Although he has permanently reduced acuity in a single eye his peripheral vision and binocular acuity remain adequate based on the requirements set forth by the FMCSA.” Mr. Lovell reported that he has driven straight trucks for 4 years, accumulating 40,000 miles, and tractor-trailer combinations for 4 years, accumulating 420,000 miles. He holds an operator's license from Nebraska. His driving record for the last 3 years shows no crashes and no convictions for moving violations in a CMV.

Jason W. Mack

Mr. Mack, 34, has chorioretinal scarring in his right eye due to a traumatic incident childhood. The visual acuity in his right eye is 20/50, and in his left eye, 20/20. Following an examination in 2016, his optometrist stated, “In my opinion, Jason's vision loss does not prohibit him from operating a commercial vehicle.” Mr. Mack reported that he has driven straight trucks for 15 years, accumulating 375,000 miles. He holds an operator's license from Pennsylvania. His driving record for the last 3 years shows no crashes and no convictions for moving violations in a CMV.

Terry G. Montgomery

Mr. Montgomery, 62, has had amblyopia in his right eye since childhood. The visual acuity in his right eye is 20/50, and in his left eye, 20/20. Following an examination in 2016, his optometrist stated, “In my medical opinion as a license [sic] optometrist, Mr. Montgomery has sufficient vision to perform the driving tasks required to operate a commercial vehicle.” Mr. Montgomery reported that he has driven straight trucks for 37 years, accumulating 19,240 miles. He holds a Class A CDL from Indiana. His driving record for the last 3 years shows no crashes and no convictions for moving violations in a CMV.

John P. O'Doherty

Mr. O'Doherty, 53, has had amblyopia in his left eye since childhood. The visual acuity in his right eye is 20/20, and in his left eye, 20/70. Following an examination in 2016, his optometrist stated, “It is my opinion that Mr. O'Doherty has sufficient vision for a commercial driver's license.” Mr. O'Doherty reported that he has driven straight trucks for 4 years, accumulating 100,000 miles, and tractor-trailer combinations for 21 years, accumulating 18.9 million miles. He holds a Class A CDL from Minnesota. His driving record for the last 3 years shows no crashes and no convictions for moving violations in a CMV.

Antonio Rivera

Mr. Rivera, 53, has complete loss of vision in his right eye due to a traumatic incident in 1990. The visual acuity in his right eye is no light perception, and in his left eye, 20/20. Following an examination in 2016, his ophthalmologist stated, “I believe Mr. Antonio Rivera has sufficient vision to perform the driving tasks required to operate a commercial vehicle.” Mr. Rivera reported that he has driven tractor-trailer combinations for 13 years, accumulating 1.3 million miles. He holds a Class A CDL from Pennsylvania. His driving record for the last 3 years shows no crashes and no convictions for moving violations in a CMV.

Julio Rivera

Mr. Rivera, 68, has had optic nerve atrophy in his left eye since 2007. The visual acuity in his right eye is 20/20, and in his left eye, count fingers. Following an examination in 2016, his ophthalmologist stated, “Using both eyes, sufficient vision is present (20/20 ou) to perform Driving [sic] tasks Required [sic] to operate a commercial vehicle.” Mr. Rivera reported that he has driven tractor-trailer combinations for 18 years, accumulating 558,000 miles. He holds a Class A CDL from Florida. His driving record for the last 3 years shows no crashes and no convictions for moving violations in a CMV.

Steve C. Sinclair

Mr. Sinclair, 66, has had amblyopia in his right eye since childhood. The visual acuity in his right eye is 20/70, and in his left eye, 20/25. Following an examination in 2016, his optometrist stated, “He has a history of congenital strabismic amblyopia. Based on the last visual field test, there is no indication that the visual field in either eye is adversely affected, and the visual fields should not impede Mr. Sinclair's ability to operate a commercial vehicle.” Mr. Sinclair reported that he has driven straight trucks for 32 years, accumulating 1.28 million miles. He holds an operator's license from Iowa. His driving record for the last 3 years shows no crashes and no convictions for moving violations in a CMV.

Jerrell L. Smith

Mr. Smith, 32, has had amblyopia in his right eye since childhood. The visual acuity in his right eye is 20/50, and in his left eye, 20/20. Following an examination in 2016, his optometrist stated, “I feel his vision is stable and is capable of operating a commercial vehicle.” Mr. Smith reported that he has driven straight trucks for 5 years, accumulating 125,000 miles, and tractor-trailer combinations for 5 years, accumulating 25,000 miles. He holds a Class AM CDL from Texas. His driving record for the last 3 years shows no crashes and no convictions for moving violations in a CMV.

Ricky E. Smith

Mr. Smith, 55, has had amblyopia in his right eye since childhood. The visual acuity in his right eye is 20/50, and in his left eye, 20/20. Following an examination in 2016, his optometrist stated, “In my opinion Mr. Smith's vision in his right eye will not limit his ability to drive a commercial vehicle; and his condition is stable and should not worsen over time.” Mr. Smith reported that he has driven straight trucks for 37 years, accumulating 740,000 miles, tractor-trailer combinations for 37 years, accumulating 185,000 miles, and buses for 37 years, accumulating 37,000 miles. He holds a Class A CDL from Georgia. His driving record for the last 3 years shows no crashes and no convictions for moving violations in a CMV.

Venton E. Smith

Mr. Smith, 45, has had amblyopia in his right since birth. The visual acuity in his right eye is 20/400, and in his left eye, 20/20. Following an examination in 2016, his optometrist stated, “Mr. Venton has sufficient vision to continue operating a vehicle with caution. Please note that I am not a vehicle examiner and my opinion alone cannot determine Mr. Venton's ability to operate a commercial vehicle. The purpose of this letter is to summarize testing required by the DOT.” Mr. Smith reported that he has driven straight trucks for 3 years, accumulating 195,000 miles. He holds a Class A CDL from California. His driving record for the last 3 years shows no crashes and no convictions for moving violations in a CMV.

Willie J. Smith

Mr. Smith, 58, has central corneal opacity in his right eye due to a traumatic incident in 1985. The visual acuity in his right eye is counting fingers, and in his left eye, 20/20. Following an examination in 2016, his optometrist stated, “Given that he has a long-standing medical condition that he is fully adapted to with the left eye being fully functional, in my medical opinion he has sufficient vision to perform the driving tasks required to operate a commercial vehicle.” Mr. Smith reported that he has driven tractor-trailer combinations for 36 years, accumulating 7.87 million miles. He holds a Class A CDL from Texas. His driving record for the last 3 years shows no crashes and no convictions for moving violations in a CMV.

Glen W. Stake Jr.

Mr. Stake, 43, has had eccentric fixation in his left eye due to retrobulbar optic nerve damage since childhood. The visual acuity in his right eye is 20/25, and in his left eye, 20/80. Following an examination in 2016, his optometrist stated, “I feel that he will safely pass and use a commercial driver's license, despite retrobulbar optic nerve damage form accident at age 5.” Mr. Stake reported that he has driven straight trucks for 6 years, accumulating 300,000 miles, and tractor-trailer combinations for 16 years, accumulating 1.6 million miles. He holds a Class A CDL from Ohio. His driving record for the last 3 years shows no crashes and no convictions for moving violations in a CMV.

John D. Stork

Mr. Stork, 57, has had a prosthetic in his right eye due to a traumatic incident in 1984. The visual acuity in his right eye is no light perception, and in his left eye, 20/20. Following an examination in 2016, his ophthalmologist stated, “Upon visual field findings included and full eye exam, I find the patient can perform the driving tasks required to operate a commercial vehicle.” Mr. Stork reported that he has driven straight trucks for 14 years, accumulating 840,000 miles, and tractor-trailer combinations for 10 years, accumulating 540,000 miles. He holds a Class AM CDL from Illinois. His driving record for the last 3 years shows no crashes and no convictions for moving violations in a CMV.

David T. Tann

Mr. Tann, 35, has had amblyopia in his left eye since childhood. The visual acuity in his right eye is 20/20, and in his left eye, 20/100. Following an examination in 2016, his optometrist stated, “Mr. Tann's vision in his left eye has been weak since childhood, this is nothing new and is stable. Mr. Tann should have no problems operating a commercial vehicles.” Mr. Tann reported that he has driven tractor-trailer combinations for 6 years, accumulating 90,000 miles. He holds a Class A CDL from North Carolina. His driving record for the last 3 years shows no crashes and no convictions for moving violations in a CMV.

Jeremy M. Trager

Mr. Trager, 35, has choroidal melanoma in his right eye since 2012. The visual acuity in his right eye is 20/400, and in his left eye, 20/20. Following an examination in 2016, his ophthalmologist stated, “I believe he should have sufficient vision to perform the driving tasks required to operate a commercial vehicle.” Mr. Trager reported that he has driven straight trucks for 9 years, accumulating 32,400 miles. He holds a Class A CDL from Ohio. His driving record for the last 3 years shows no crashes and no convictions for moving violations in a CMV.

James R. Wagner

Mr. Wagner, 62, has had amblyopia in his left eye since childhood. The visual acuity in his right eye is 20/20, and in his left eye, 20/200. Following an examination in 2016, his optometrist stated, “It is my opinion that Mr. Wagner has sufficient visual ability at present to perform the driving tasks required to operate a commercial vehicle.” Mr. Wagner reported that he has driven straight trucks for 38 years, accumulating 988,000 miles. He holds an operator's license from Illinois. His driving record for the last 3 years shows no crashes and 1 conviction for a moving violation in a CMV; speeding 15-20 mph above the limit.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0212 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0212 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: November 17, 2016.
Larry W. Minor,
Associate Administrator for Policy.

[FR Doc. 2016-28680 Filed 11-28-16; 8:45 am]

BILLING CODE 4910-EX-P